FEDERAL COMMUNICATIONS COMMISSION

Notice of Public Information Collection(s) Being Submitted to OMB for Review and Approval

June 27, 2006.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 7, 2006. If you anticipate that you will be submitting comments, but find it difficult to do so within the period of time allowed by this notice, you should advise the contact listed below as soon as possible.

ADDRESSES: Direct all comments to Cathy Williams, Federal Communications Commission, Room 1-C823, 445 12th Street, SW., Washington, DC 20554 or via the Internet to Cathy.Williams@fcc.gov or Kristy L. LaLonde, Office of Management and Budget (OMB), Room 10236 NEOB, Washington, DC 20503, (202) 395-3087 or via the Internet at Kristy_L._LaLonde@omb.eop.gov.

FOR FURTHER INFORMATION CONTACT: For additional information concerning this information collection(s) contact Cathy Williams at (202) 418-2918 or via the Internet at Cathy.Williams@fcc.gov. If you would like to obtain or view a copy of this revised information collection, you may do so by visiting the FCC PRA web page at: http://www.fcc.gov/omd/pra.

SUPPLEMENTARY INFORMATION: OMB Control Number: 3060-0647.

Title: Annual Cable Price Survey and Supplemental Questions.

Form Number: Not applicable.

Type of Review: Revision of a currently approved collection.

Respondents: Business or other for-profit entities; State, local or tribal government.

Number of Respondents: 758.

Estimated Time per Response: 2-7 hours.

Frequency of Response: Annual Reporting Requirement.

Total Annual Burden: 6,822 hours.

Total Annual Cost: None.

Privacy Impact Assessment: No impact(s).

Needs and Uses: This data collection represents a small number of supplemental questions needed to complete the 2006 report on cable industry prices. The Commission received OMB approval for the Annual Survey of Cable Industry Prices on February 7, 2006. Section 623(k) of the Cable Television Consumer Protection and Competition Act of 1992 requires the Commission to publish an annual statistical report on average rates for basic cable service, cable programming service, and equipment. The report must compare the prices charged by cable operators subject to effective competition and those not subject to effective competition. The data from these supplemental questions are needed to complete this report.

Federal Communications Commission.
William F. Caton,
Deputy Secretary.

[FR Doc. E6-10476 Filed 7-5-06; 8:45 am]

BILLING CODE 6712-01-P